DEPARTMENT OF COMMERCE

National Oceanic and Atmospheric Administration

50 CFR Part 230

[Docket No. 001120325-1053-02, I.D. 122800B]

RIN 0648-AO77

Whaling Provisions: Aboriginal Subsistence Whaling Quotas

AGENCY: National Marine Fisheries Service (NMFS), National Oceanic and Atmospheric Administration (NOAA), Commerce.

ACTION: Aboriginal subsistence whaling quota.

SUMMARY: NMFS announces the 2001 aboriginal subsistence whaling quota for gray whales. For 2001, the quota is zero gray whales landed, but may be revised later in the year. This quota governs the harvest of gray whales by members of the Makah Indian Tribe (Tribe).

DATES: Effective March 14, 2001.

ADDRESSES: Office of Protected Resources, National Marine Fisheries Service, 1315 East West Highway, Silver Spring, MD 20910.

FOR FURTHER INFORMATION CONTACT: Cathy Campbell, (202) 482-2652.

SUPPLEMENTARY INFORMATION: Aboriginal subsistence whaling in the United States is governed by the Whaling Convention Act (16 U.S.C. 916 et seq.) and rules at 50 CFR part 230. The rules requires the Secretary of Commerce to publish, at least annually, aboriginal subsistence whaling quotas and any other limitations on aboriginal subsistence whaling deriving from regulations of the International Whaling Commission (IWC).

At the 1997 Annual Meeting of the IWC, the Commission set quotas for aboriginal subsistence use of gray whales from the Eastern stock in the North Pacific. This action by the IWC thus authorized aboriginal subsistence whaling by the Tribe for gray whales, and is discussed in greater detail in the Federal Register notification (64 FR 28413, May 26, 1999).

On June 9, 2000, the United States Court of Appeals for the Ninth Circuit ruled that the Department of Commerce’s environmental assessment (EA) under the National Environmental Policy Act (NEPA) should have been completed before agreeing to request a gray whale quota from the IWC. The Court ordered the agency to prepare a new NEPA document under circumstances that would ensure an objective evaluation of the environmental consequences of the gray whale harvest.

NOAA completed a draft EA on January 12, 2001 and solicited public comments. NMFS is currently preparing a final EA. NOAA set the 2000 quota at zero (65 FR 75186) and is now setting the 2001 quota at zero pending completion of the NEPA analysis.

Dated: March 5, 2001.
William T. Hogarth,
Deputy Assistant Administrator for Fisheries, National Marine Fisheries Service.

[FR Doc. 01-6350 Filed 3-13-01; 8:45 am]

BILLING CODE 3510-22-S